DEPARTMENT OF TRANSPORTATION

Federal Highway Administration

23 CFR Part 490

[FHWA Docket No. FHWA-2013-0020]

RIN 2125-AF49

National Performance Management Measures; Highway Safety Improvement Program

AGENCY: Federal Highway Administration (FHWA), DOT.

ACTION: Notice of proposed rulemaking; extension of comment period.

SUMMARY: The FHWA is extending the comment period for a notice of proposed rulemaking (NPRM) and request for comments, which was published on March 11, 2014, at 79 FR 13846. The original comment period is set to close on June 9, 2014. The extension is based the FHWA's desire to allow interested parties sufficient time to review and provide comprehensive comments on this NPRM and the related FHWA/FTA Statewide and Nonmetropolitan Transportation Planning; Metropolitan Transportation Planning NPRM (FHWA RIN 2125-AF52; FTA RIN 2132-AB10). Therefore, the closing date for comments is changed to June 30, 2014, which will provide those interested in commenting additional time to discuss, evaluate, and submit responses to the docket.

DATES: Comments must be received on or before June 30, 2014.

ADDRESSES: Mail or hand deliver comments to the U.S. Department of Transportation, Dockets Management Facility, 1200 New Jersey Avenue SE., Washington, DC 20590, or submit electronically at http://www.regulations.gov. All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Pages 19477-78) or you may visit http://www.regulations.gov.

FOR FURTHER INFORMATION CONTACT: Francine Shaw Whitson, Office of Infrastructure, (202) 366-8028, or Anne Christenson, Office of Chief Counsel, (202) 366-1356, Federal Highway Administration, 1200 New Jersey Avenue SE., Washington, DC 20590. Office hours are from 8:00 a.m. to 4:30 p.m. e.t., Monday through Friday, except Federal holidays.

SUPPLEMENTARY INFORMATION:

Electronic Access and Filing

You may submit or access all comments received by the DOT online through: http://www.regulations.gov. Electronic submission and retrieval help and guidelines are available on the Web site. It is available 24 hours each day, 365 days each year. Please follow the instructions. An electronic copy of this document may also be downloaded from the Federal Register's home page at: http://www.federalregister.gov.

Background

On March 11, 2014, the FHWA published in the Federal Register a NPRM proposing to establish measures for State departments of transportation (State DOT) to use to carry out the Highway Safety Improvement Program (HSIP) and to assess serious injuries and fatalities per vehicle mile traveled, and the number of serious injuries and fatalities. The HSIP is a core Federal-aid highway program with the purpose of achieving a significant reduction in fatalities and serious injuries on all public roads, including non-State-owned public roads and roads on tribal lands. (23 U.S.C. 148(b)).

This NPRM also proposes the following: the definitions that will be applicable to the new 23 CFR 490; the process to be used by State DOTs and Metropolitan Planning Organizations (MPOs) to establish safety-related performance targets that reflect the measures proposed in this rulemaking; a methodology to be used to assess State DOTs compliance with the target achievement provision specified under 23 U.S.C. 148(i); and the process State DOTs must follow to report on progress towards the achievement of safety-related performance targets.

The original comment period for the NPRM closes on June 9, 2014. The FHWA believes that this closing date may not provide sufficient time to review and provide comprehensive comments on the National Performance Management Measures; Highway Safety Improvement Program NPRM, considering all related rulemaking activities including the related FHWA/FTA Statewide and Nonmetropolitan Transportation Planning; Metropolitan Transportation Planning NPRM (FHWA RIN 2125-AF52; FTA RIN 2132-AB10). To allow the public to submit comprehensive comments, the closing date is changed from June 9, 2014, to June 30, 2014.

Authority: 23 U.S.C. 134, 135, 148(i) and 150; 49 CFR 1.85.

Issued on: May 21, 2014.
Gregory G. Nadeau,
Deputy Administrator, Federal Highway Administration.

[FR Doc. 2014-12162 Filed 5-27-14; 8:45 am]

BILLING CODE 4910-22-P